FEDERAL DEPOSIT INSURANCE CORPORATION

Agency Information Collection Activities: Proposed Collection Renewal; Comment Request

AGENCY: Federal Deposit Insurance Corporation (FDIC).

ACTION: Notice and request for comment.

SUMMARY: The FDIC, as part of its continuing effort to reduce paperwork and respondent burden, invites the general public and other federal agencies to take this opportunity to comment on a continuing information collection, as required by the Paperwork Reduction Act of 1995 (44 U.S.C. chapter 35). Currently, the FDIC is soliciting comments concerning the collection of information titled: Asset Securitization (3064-0137).

DATES: Comments must be submitted on or before August 30, 2010.

ADDRESSES: Interested parties are invited to submit written comments. All comments should refer to the name and number of the collection. Comments may be submitted by any of the following methods:

• http://www.FDIC.gov/regulations/laws/federal/notices.html.

• E-mail: comments@fdic.gov.

• Mail: Gary A. Kuiper (202-898-3877), Federal Deposit Insurance Corporation, 550 17th Street, NW., F-1072, Washington, DC 20429.

• Hand Delivery: Comments may be hand-delivered to the guard station at the rear of the 550 17th Street Building (located on F Street), on business days between 7 a.m. and 5 p.m.

A copy of the comments may also be submitted to the OMB Desk Officer for the FDIC, Office of Information and Regulatory Affairs, Office of Management and Budget, New Executive Office Building, Washington, DC 20503.

FOR FURTHER INFORMATION CONTACT: Gary A. Kuiper (address above).

SUPPLEMENTARY INFORMATION: The FDIC is proposing to renew, without change, the following information collection.

Title: Interagency Guidance on Asset Securitization Activities.

OMB Number: 3064-0137.

Form Number: None.

Frequency of Response: On occasion.

Affected Public: Insured state nonmember banks involved in asset securitization activities.

Estimated Number of Responses: 20.

Estimated Time per Response: 7.45 hours.

Total Annual Burden: 149 hours.

General Description of Collection: The collection applies to institutions engaged in asset securitization and consists of a written asset securitization policy, the documentation of fair value of retained interests, and a management information system to monitor securitization activities. Bank management uses this information as the basis for the safe and sound operation of their asset securitization activities and to ensure that they minimize operational risk in these activities. The FDIC uses the information to evaluate the quality of a bank's risk management practices. The FDIC also uses the information to assist banks lacking proper internal supervision of their asset securitization activities with the implementation of corrective action to ensure that the activities are conducted in a safe and sound manner.

Request for Comment

Comments are invited on: (a) Whether this collection of information is necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's request to OMB for renewal of this collection. All comments will become a matter of public record.

Dated at Washington, DC, this 28th day of June, 2010.
Federal Deposit Insurance Corporation.
Valerie J. Best,
Assistant Executive Secretary.

[FR Doc. 2010-16030 Filed 6-30-10; 8:45 am]

BILLING CODE 6714-01-P